FEDERAL RESERVE SYSTEM

Government in the Sunshine; Meeting Notice

Agency Holding the Meeting: Board of Governors of the Federal Reserve System.

Federal Register Citation of Previous Announcement: 72 FR 24311, May 2, 2007.

Previously Announced Time and Date of the Meeting: 12 p.m. Monday, May 7, 2007.

Changes in the Meeting: Change in the time of the closed meeting to 10 a.m., Monday, May 7, 2007.

For More Information Please Contact: Michelle Smith, Director, or Dave Skidmore, Assistant to the Board, Office of Board Members at 202-452-2955.

SUPPLEMENTARY INFORMATION: You may call 202-452-3206 beginning at approximately 5 p.m. two business days before the meeting for a recorded announcement of bank and bank holding company applications scheduled for the meeting; or you may contact the Board's Web site at http://www.federalreserve.gov for an electronic announcement that not only lists applications, but also indicates procedural and other information about the meeting.

Dated: May 4, 2007.
Robert deV. Frierson,
Deputy Secretary of the Board.

[FR Doc. 07-2301 Filed 5-4-07; 2:20 pm]

BILLING CODE 6210-01-P